DEPARTMENT OF HOUSING AND URBAN DEVELOPMENT

[Docket No. FR-4566-N-12]

Notice of Proposed Information Collection: Comments Request, Community Development Block Grant, States Program

AGENCY: Office of the Assistant Secretary for Community Planning and Development, HUD.

ACTION: Notice.

SUMMARY: The proposed information collection requirement for the State Community Development Block Grant (CDBG) program will be submitted to the Office of Management and Budget (OMB) for review, as required by the Paperwork Reduction Act. The Department is soliciting public comments on the subject proposal.

DATES: Comment Due Date: November 14, 2000.

ADDRESSES: Interested persons are invited to submit comments regarding this proposal. Comments should refer to the proposal by name and/or OMB Control Number and should be sent to: Shelia Jones, Reports Liaison Officer, Department of Housing and Urban Development, 451 7th Street, SW, Room 7232, Washington, DC 20410.

FOR FURTHER INFORMATION CONTACT: Steve Johnson, Director, State and Small Cities Division, Department of Housing and Urban Development, Room 7286, 451 Seventh Street, SW, Washington, DC 20410­-7000. For telephone communication, contact Yvette Aidara, State and Small Cities Division, at 202-708-1322. This is not a toll-free number. Hearing or speech impaired individuals may access this number via TTY by calling the toll-free Federal Information Relay Service at 1-800-877-8339.

SUPPLEMENTARY INFORMATION: The Department will submit the proposed information collection to OMB for review, as required by the Paperwork Reduction Act of 1995 (44 U.S.C. Chapter 35, as amended).

The Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected, and (4) minimize the burden of the collection of information on those who are to respond; including through the use of appropriate automated collection techniques or other forms of information technology, e.g., permitting electronic submission of responses.

This Notice also lists the following information:

Title of Proposal: Community Development Block Grants: States Program.

OMB Control Number: 2506-0085.

Description of the Need for the Information and Proposed Use: The information is needed to assist HUD in determining whether States are carrying out the CDBG program in accordance with the applicable laws. In addition, States must maintain records at the state level to facilitate review and audit by HUD of each state's administration of its grant pursuant to section 104 (e) of the statute and section 570.490 of the State CDBG rule.

Agency Form Numbers, if applicable: The Housing and Community Development Act of 1974, as amended, requires states that administer the CDBG program to submit: (1) A Final Statement that contains the community development objectives, a method of distribution, and the certification by the Governor or a duly authorized state official (Section 104(a)(1); (2) an annual performance and evaluation report (PER) (Section 104(e)); and such records as may be necessary to facilitate review and audit by HUD of the state's administration of CDBG funds (Section 104(e)(2)).

Members of Affected Public: State Governments participating in the State administered CDBG program.

Estimation of the total numbers of hours needed to prepare the information collection including number of respondents, frequency of response, and hours of response:

Task | Number of respondents | Frequency of response (annual) | Estimate of burden hours | Total U.S. burden hours
PER (Performance & Evaluation Report) | 50 | 1 | 212 | 10,600
Recordkeeping:
States | 50 | on-going | 116 | 5,800
Localities | 3,500 | on-going | 26 | 91,000
Total | 50 plus | 2 or more | 354 | 107,400

Status of the Proposed Information Collection: Reinstatement, with minor change, of a previously approved collection for which approval is near expiration and request for OMB renewal for three years. The current OMB approval expires in November, 2000.

This report does not include hours spent on Consolidated Plan preparation and reporting. Those hours are reported with 2506-0117.

Authority: Section 3506 of the Paperwork Reduction Act of 1995, 44 U.S.C. Chapter 35, as amended.

Dated: September 11, 2000.
Cardell Cooper,
Assistant Secretary for Community Planning and Development.

[FR Doc. 00-23721 Filed 9-14-00; 8:45 am]

BILLING CODE 4210-29-M